DEPARTMENT OF THE INTERIOR

Bureau of Ocean Energy Management

Outer Continental Shelf, Central and Western Gulf of Mexico Planning Areas, Oil and Gas Lease Sales for Years 2012-2017 (Sales 229, 227, 233, 231, 238, 235, 246, 241, 248, and 247)

AGENCY: Bureau of Ocean Energy Management (BOEM), Interior.

ACTION: Call for Information and Nominations; Clarification.

SUMMARY: On March 15, 2011, BOEM (formerly the Bureau of Ocean Energy Management, Regulation and Enforcement) published a notice in the Federal Register (76 FR 14040), entitled “Call for Information and Nominations” (the Call). Subsequently, on November 15, 2011, BOEM published a “Call for Information and Nominations: Correction” in the Federal Register (76 FR 70748) correcting the sale numbers that were identified in the Call. This document describes a revision to the description of the areas not available for leasing in the OCS. BOEM believes the previous descriptions of the areas excluded by the Gulf of Mexico Energy Security Act of 2006 (Pub. L. 109-432 December 20, 2006) could be confusing.

Consequently, Section 4.A. items 1 and 2 of the original call are to be revised by deleting the following:

1. Blocks that were previously included within the Eastern GOM Planning Area and are within 100 miles of the Florida coast; and

2. Blocks east of the Military Mission line (86 degrees, 41 minutes west longitude) under an existing moratorium until 2022, as a result of the Gulf of Mexico Energy Security Act of 2006 (December 20, 2006); and replacing them with:

1. Whole blocks and portions of blocks deferred by the Gulf of Mexico Energy Security Act of 2006.

Section 4.A. items 3 and 4 are also renumbered to 2 and 3 respectively to reflect this change.

DATES: This modification is effective immediately.

FOR FURTHER INFORMATION CONTACT: Mr. Carrol Williams, Bureau of Ocean Energy Management, Gulf of Mexico OCS Region, 1201 Elmwood Park Boulevard, New Orleans, Louisiana 70123-2394, telephone (504) 736-2803.

Dated: May 14, 2012.
Tommy P. Beaudreau,
Director, Bureau of Ocean Energy Management.

[FR Doc. 2012-12664 Filed 5-23-12; 8:45 am]

BILLING CODE 4310-MR-P